FEDERAL COMMUNICATIONS COMMISSION

47 CFR Part 90

[WP Docket Nos. 15-32, 16-261, RM-11572, RM-11719, RM-11722, FCC 18-143]

Creation of Interstitial 12.5 Kilohertz Channels in the 800 MHz Band Between 809-817/854-862 MHz; Improve Access to PLMR Spectrum; Land Mobile Communications Council

AGENCY: Federal Communications Commission.

ACTION: Final rule; announcement of compliance date.

SUMMARY: In this document, the Commission announces that the Office of Management and Budget (OMB) has approved the information collections associated with the rules for central station alarm channels and 800 MHz interstitial channels contained in the Commission's Report and Order and Order FCC 18-143, and that compliance with the modified rules is now required. It removes paragraphs advising that compliance was not required until OMB approval was obtained. This document is consistent with Report and Order and Order FCC 18-143, which states the Commission will publish a document in the Federal Register announcing a compliance date for the modified rule sections and revise the rules accordingly.

DATES:

Effective date: This rule is effective June 21, 2019.

Compliance date: Compliance with 47 CFR 90.175(b) and (e) and 90.621(d)(4), published at 83 FR 61072 on November 27, 2018, is required as of June 21, 2019.

FOR FURTHER INFORMATION CONTACT:

Public Safety licensee information: Brian Marenco, Policy and Licensing Division, Public Safety and Homeland Security Bureau, at (202) 418-0838, or email: brian.marenco@fcc.gov.

Industrial/Business licensee information: Melvin Spann, Mobility Division, Wireless Telecommunications Bureau, (202) 418-1333, melvin.spann@fcc.gov.

SUPPLEMENTARY INFORMATION: This document announces that, OMB approved the information collection requirement in § 90.175(e) on December 3, 2018, and approved the information collection requirements in §§ 90.175(b) and 90.621(d)(4) on April 15, 2019. Each of these rules was modified in Report and Order and Order FCC 18-143, published at 83 FR 61072, November 27, 2018. The OMB Control Number for the information collection requirement in § 90.175(b) is 3060-0984. The OMB Control Number for the information collection requirement in § 90.175(e) is 3060-0798. The OMB Control Number for the information collection requirement in § 90.621(d)(4) is 3060-1261. The Commission publishes this document as an announcement of the compliance date of the rules. The other rule amendments adopted in the Report and Order and Order, which did not require OMB approval, became effective on December 27, 2018.

If you have any comments on the burden estimates listed below, or how the Commission can improve the collections and reduce any burdens caused thereby, please contact Cathy Williams, Federal Communications Commission, Room 1-C823, 445 12th Street SW, Washington, DC 20554, regarding OMB Control Numbers 3060-0798 and 3060-0984; and contact Nicole Ongele, Federal Communications Commission, Room 1-A620, 445 12th Street SW, Washington, DC 20554, regarding OMB Control Number 3060-1261. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

This document also removes §§ 90.175(k) and 90.621(d)(5) of the Commission's rules, which advised that compliance was not required until OMB approval was obtained.

Synopsis

As required by the Paperwork Reduction Act of 1995 (44 U.S.C. 3507), the FCC is notifying the public that it received final OMB approval on December 3, 2018, for the information collection requirement contained in the modification to § 90.175(e), and it received final OMB approval on April 15, 2019 for the information collection requirements contained in the modifications to §§ 90.175(b) and 90.621(d)(4).

Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirement in § 90.175(b) is 3060-0984. The OMB Control Number for the information collection requirement in § 90.175(e) is 3060-0798. The OMB Control Number for the information collection requirement in § 90.621(d)(4) is 3060-1261.

The foregoing notice is required by the Paperwork Reduction Act of 1995, Public Law 104-13, October 1, 1995, and 44 U.S.C. 3507.

The total annual reporting burdens and costs for the respondents are as follows:

OMB Control Number: 3060-0798.

OMB Approval Date: December 3, 2018.

OMB Expiration Date: October 31, 2020.

Title: FCC Application for Radio Service Authorization Wireless Telecommunications Bureau; Public Safety and Homeland Security Bureau.

Form Number: FCC Form 601.

Respondents: Individuals and households; Business or other for profit entities; Not for profit institutions; and State, local or tribal governments.

Number of Respondents and Responses: 255,352 respondents; 255,352 responses.

Estimated Time per Response: .50-1.25 hours.

Frequency of Response: On-occasion or periodic reporting requirement.

Obligation to Respond: Required to obtain or retain benefits. The statutory authority for this information collection is contained in 47 U.S.C. 151, 152, 154, 154(i), 155(c), 157, 201, 202, 208, 214, 301, 302a, 303, 307, 308, 309, 310, 311, 314, 316, 319, 324, 331, 332, 333, 336, 534, 535 and 554.

Total Annual Burden: 223,833 hours.

Total Annual Cost: $ 71,877,750.

Nature and Extent of Confidentiality: Respondents may request that materials or information submitted to the Commission be withheld from public inspection under 47 CFR 0.459 of the FCC rules.

Privacy Act: Yes.

Needs and Uses: On October 22, 2018, the Commission released a Report and Order and Order in WP Docket No. 15-32, RM-11572, WP Docket No. 16-261, RM-11719 and RM-11722, which revises the text to § 90.175(e) of the Commission's rules. The updated rule section requires applicants seeking to license newly available 12.5 kHz bandwidth interstitial channels in the 809-817 MHz/854-862 MHz segment of the 800 MHz band (800 MHz Mid-Band) to include a showing of frequency coordination with their application for license. Applicants include a showing of frequency coordination by completing Schedule H of FCC Form 601. Applicants indicate on Schedule H whether their application was successfully coordinated before it was filed with the Commission and, if so, which Commission-approved frequency coordinator performed the coordination. The Commission now has approval under OMB Control Number 3060-0798 to collect frequency coordination information from applicants seeking to license the newly available 12.5 kHz bandwidth interstitial channels in the 800 MHz Mid-Band.

OMB Control Number: 3060-0984.

OMB Approval Date: April 15, 2019.

OMB Expiration Date: April 30, 2022.

Title: 90.175(b)(1), Frequency Coordinator Requirements, Industrial/Business Pool frequencies.

Form Number: N/A.

Respondents: Business or other for-profit entities, and State, local, or tribal government.

Number of Respondents and Responses: 2,700 respondents; 2,700 responses.

Estimated Time per Response: 1 hour.

Frequency of Response: One-time reporting requirement, and third party disclosure requirement.

Obligation to Respond: Required to obtain or retain benefits. Statutory authority for this collection of information is contained in Sections 4(i), 11, 303(g), 303(r), and 332(c)(7) of the Communications Act of 1934, as amended, 47 U.S.C. 154(i), 161, 301, 302(a), 303(g), 303(r), 309, 332(c)(7), 336 and 337.

Total Annual Burden: 2,700 hours.

Total Annual Cost: No cost.

Nature and Extent of Confidentiality: There is no need for confidentiality with this collection of information.

Privacy Act: No impact(s).

Needs and Uses: On October 22, 2018, the Commission issued a Report and Order and Order, FCC 18-143, in WP Docket No. 15-32, RM-11572, WP Docket No. 16-261, RM-11719 and RM-11722 (800/PLMR Access Order), in which it revised certain rules to require applicants for channels currently designated for central station alarm use to obtain the concurrence of the central station alarm frequency coordinator in order to use the channels for uses other than central station alarm operations. This requirement is similar to existing requirements pertaining to certain other channels. The Report and Order and Order did not revise any of the information collection requirements that are contained in this collection but rather added additional frequencies to the list. Therefore, this essentially is adding an additional 200 respondents to this collection.

OMB Control Number: 3060-1261.

OMB Approval Date: April 15, 2019.

OMB Expiration Date: April 30, 2022.

Title: Creation of Interstitial 12.5 Kilohertz Channels in the 800 MHz Band Between 809-817/854-862 MHz.

Form Number: N/A.

Respondents: Business or other for-profit; Not-for-profit institutions; State, Local or Tribal Government.

Number of Respondents and Responses: 700 respondents, 350 responses.

Estimated Time per Response: 2 hours.

Frequency of Response: One-time reporting requirement.

Obligation to Respond: Required to obtain or retain benefits. Statutory authority for this collection is contained in 47 U.S.C. 151, 154, 301, 303, and 332 of the Communications Act of 1934.

Total Annual Burden: 700 hours.

Total Annual Cost: No cost.

Nature and Extent of Confidentiality: There is no need for applicants filing applications to license channels in the 809-817/854-862 MHz band segment (800 MHz Mid-Band) to include confidential information with their application. Nonetheless, there is a need for confidentiality with respect to all applications filed with the Commission through its Universal Licensing System (ULS). Although ULS stores all information pertaining to the individual license via an FCC Registration Number (FRN), confidential information is accessible only by persons or entities that hold the password for each account, and the Commission's licensing staff. Information on private land mobile radio licensees is maintained in the Commission's system of records, FCC/WTB-1, “Wireless Services Licensing Records.” The licensee records will be publicly available and routinely used in accordance with subsection (b) of the Privacy Act. TIN Numbers and material which is afforded confidential treatment pursuant to a request made under 47 CFR 0.459 will not be available for Public inspection. Any personally identifiable information (PII) that individual applicants provide is covered by a system of records, FCC/WTB-1, “Wireless Services Licensing Records,” and these and all other records may be disclosed pursuant to the Routine Uses as stated in this system of records notice.

Privacy Act: No impact(s).

Needs and Uses: On October 22, 2018, the Commission released a Report and Order and Order in WP Docket No. 15-32, RM-11572, WP Docket No. 16-261, RM-11719 and RM-11722WP Docket No. 15-32 which adds new rule § 90.621(d)(4) to the Commission's rules. The new rule section requires applicants seeking to license newly available 12.5 kHz bandwidth interstitial channels in the 809-817 MHz/854-862 MHz segment of the 800 MHz band (800 MHz Mid-Band) to include a letter of concurrence from an incumbent licensee if the applicant files an application which causes contour overlap under a forward analysis or receives contour overlap under a reciprocal analysis when the applicant seeks to license channels in the 800 MHz Mid-Band. In the case of the forward analysis, the incumbent licensee must agree in its concurrence letter to accept any interference that occurs as a result of the contour overlap. In the case of the reciprocal analysis, the incumbent licensee must state in its concurrence letter that it does not object to the applicant receiving contour overlap from the incumbent's facility. The purpose of requiring applicants to obtain letters of concurrence if their application causes contour overlap under a forward analysis or receives contour overlap under a reciprocal analysis is to ensure incumbents in the 800 MHz Mid-Band are aware of the contour overlap before an application is granted.

List of Subjects in 47 CFR Part 90

Administrative practice and procedure, Business and industry, Civil defense, Common carriers, Communications equipment, Emergency medical services, Individuals with disabilities, Radio, Reporting and recordkeeping requirements.

Federal Communications Commission.
Katura Jackson,
Federal Register Liaison Officer.

Final Rules

For the reasons discussed in the preamble, the Federal Communications Commission amends 47 CFR part 90 as follows.

PART 90—PRIVATE LAND MOBILE RADIO SERVICES

1. The authority citation for part 90 continues to read as follows.

Authority: 47 U.S.C. 154(i), 161, 303(g), 303(r), 332(c)(7), 1401-1473.

§ 90.175 [Amended]

2. Amend § 90.175 by removing paragraph (k).

§ 90.621 [Amended]

3. Amend § 90.621 by removing paragraph (d)(5).

[FR Doc. 2019-12984 Filed 6-20-19; 8:45 am]

BILLING CODE 6712-01-P